DEPARTMENT OF HOMELAND SECURITY

Federal Emergency Management Agency

44 CFR Part 67

[Docket ID FEMA-2013-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) modified | Communities affected
Allen County, Ohio, and Incorporated Areas | Docket No.: FEMA-B-1192
Auglaize River | Approximately 0.7 mile downstream of Greely Chapel Road | + 909 | Unincorporated Areas of Allen County.
| Approximately 750 feet upstream of Faulkner Road | + 965
Dug Run | At the Ottawa River confluence | + 780 | City of Lima, Unincorporated Areas of Allen County.
| Approximately 100 feet downstream of North Cable Road | + 827
Dug Run Tributary | At the Dug Run confluence | + 813 | Unincorporated Areas of Allen County.
| At the downstream side of Eastown Road | + 823
Flat Fork Creek | Approximately 0.4 mile downstream of East 7th Street | + 762 | Unincorporated Areas of Allen County.
| Approximately 0.6 mile upstream of State Highway 66 (Spencerville Avenue) | + 776
Freed Ditch | At the Little Ottawa River confluence | + 867 | Unincorporated Areas of Allen County, Village of Fort Shawnee.
| Approximately 1,600 feet upstream of the Little Ottawa River confluence | + 870
Hog Creek | At the Ottawa River confluence | + 900 | Unincorporated Areas of Allen County.
| At the downstream side of County Highway 15 (Hardin Road) | + 924
Jennings Creek | Approximately 400 feet downstream of Pohlman Road | + 760 | City of Delphos, Unincorporated Areas of Allen County.
| Approximately 200 feet upstream of Pohlman Road | + 760
Little Ottawa River | At the Ottawa River confluence | + 827 | Unincorporated Areas of Allen County, Village of Fort Shawnee.
| Approximately 0.8 mile upstream of Hume Road | + 881
Little Riley Creek | At the upstream side of Columbus Grove Bluffton Road | + 820 | Unincorporated Areas of Allen County.
| Approximately 150 feet upstream of Columbus Grove Bluffton Road | + 820
Lost Creek | At the Ottawa River confluence | + 863 | Unincorporated Areas of Allen County.
| At the downstream side of Cool Road | + 928
Lost Creek Tributary | At the downstream side of State Highway 117/309 | + 875 | Unincorporated Areas of Allen County.
| Approximately 50 feet upstream of State Highway 117/309 | + 875
Ottawa River | Approximately 1.1 miles downstream of Lincoln Highway | + 767 | City of Lima, Unincorporated Areas of Allen County, Village of Elida.
| At the Hog Creek confluence | + 900
Pike Run | At the Ottawa River confluence | + 769 | City of Lima, Unincorporated Areas of Allen County.
| Approximately 300 feet downstream of Knollwood Drive | + 829
Sugar Creek | Approximately 1.2 miles downstream of Hookwaltz Road | + 776 | City of Lima, Unincorporated Areas of Allen County.
| At the downstream side of Phillips Road | + 881
Unnamed tributary No. 3 to Little Ottawa River | Approximately 1,500 feet upstream of the Little Ottawa River confluence | + 835 | Unincorporated Areas of Allen County, Village of Fort Shawnee.
| Approximately 0.5 mile upstream of the Little Ottawa River confluence | + 839
* National Geodetic Vertical Datum.
+ North American Vertical Datum.
# Depth in feet above ground.
‸ Mean Sea Level, rounded to the nearest 0.1 meter.
ADDRESSES
City of Delphos
Maps are available for inspection at City Hall, 608 North Canal Street, Delphos, OH 45833.
City of Lima
Maps are available for inspection at City Hall, 50 Town Square, Lima, OH 45801.
Unincorporated Areas of Allen County
Maps are available for inspection at the Allen County Courthouse, 301 North Main Street, Lima, OH 45802.
Village of Elida
Maps are available for inspection at the Village Hall, 200 West Main Street, Elida, OH 45807.
Village of Fort Shawnee
Maps are available for inspection at the Village Hall, 2050 West Breese Road, Fort Shawnee, OH 45806.

(Catalog of Federal Domestic Assistance No. 97.022, “Flood Insurance.”)

James A. Walke,
Acting Deputy Associate Administrator for Mitigation, Department of Homeland Security, Federal Emergency Management Agency.

[FR Doc. 2013-02072 Filed 1-30-13; 8:45 am]

BILLING CODE 9110-12-P